NUCLEAR REGULATORY COMMISSION

Advisory Committee on the Medical Uses of Isotopes Subcommittee: Meeting Notice

AGENCY: Nuclear Regulatory Commission.

ACTION: Notice of Meeting.

SUMMARY: The U.S. Nuclear Regulatory Commission will convene a meeting of the Advisory Committee on the Medical Uses of Isotopes (ACMUI) Subcommittee on June 21, 2002. The meeting will take place at the address provided below. The topic of discussion will be ACMUI Subcommittee recommendations related to the training and experience of authorized users in the revised 10 CFR part 35, Medical Use of Byproduct Material, published on April 24, 2002 (67 FR 20250-20397).

DATES: ACMUI Subcommittee will hold a public meeting on Friday, June 21, 2002, from 8 a.m. to 12:00 p.m.

ADDRESS FOR PUBLIC MEETING: U.S. Nuclear Regulatory Commission, Two White Flint North Building, Conference Room T2B3, 11545 Rockville Pike, Rockville, MD 20852-2738.

FOR FURTHER INFORMATION CONTACT: Linda M. Psyk, telephone (301) 415-0215; e-mail lmp1@nrc.gov of the Office of Nuclear Material Safety and Safeguards, U.S. Nuclear Regulatory Commission, Washington, DC 20555-0001.

Conduct of the Meeting

Richard J. Vetter, Ph.D., will chair the meeting. Dr. Vetter will conduct the meeting in a manner that will facilitate the orderly conduct of business. The following procedures apply to public participation in the meeting:

1. Persons who wish to provide a written statement should submit a reproducible copy to Linda M. Psyk, U.S. Nuclear Regulatory Commission, Two White Flint North, Mail Stop T8F5, 11545 Rockville Pike, Rockville, MD 20852-2738. Submittals should be postmarked by June 14, 2002, and must pertain to the topic for the meeting.

2. Questions from members of the public will be permitted during the meeting, at the discretion of the Chairman.

3. The transcript and written comments will be available for inspection on NRC's web site (www.nrc.gov) and at the NRC Public Document Room, 11555 Rockville Pike, Rockville, MD 20852-2738, telephone (800) 397-4209, on or about July 8, 2002. Minutes of the meeting will be available on or about August 18, 2002.

This meeting will be held in accordance with the Atomic Energy Act of 1954, as amended (primarily Section 161a); the Federal Advisory Committee Act (5 U.S.C. App); and the Commission's regulations in Title 10, Code of Federal Regulations, part 7.

Dated: May 21, 2002.
Andrew L. Bates,
Advisory Committee Management Officer.

[FR Doc. 02-13245 Filed 5-24-02; 8:45 am]

BILLING CODE 7590-01-P